DEPARTMENT OF ENERGY

Federal Energy Regulatory Commission

[Docket No. ER02-1447-001]

Virginia Electric and Power Company; Notice of Filing

April 24, 2002.

Editorial Note: Due to printing errors this document was omitted from the issue of Wednesday, May 1, 2002. It was referenced in the table of contents as appearing on page 21650. It is being correctly printed in its entirety.

Take notice that on April 11, 2002, Virginia Electric and Power Company, doing business as Dominion Virginia Power, tendered for filing a cover page to revise the proposed designation of an executed Interconnection Agreement between Domination Virginia Power and Industrial Power Generating Corporation (Ingenco).

Dominion Virginia Power respectfully requests that the Commission allow the revised cover sheet to become effective on May 24, 2000, the date on which Dominion Virginia Power originally requested the Interconnection Agreement become effective.

Copies of the filing were served upon Ingenco and the Virginia State Corporation Commission.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. The filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Comment Date: May 2, 2002.

Linwood A. Watson, Jr.,
Deputy Secretary.

[FR Doc. 02-10658 Filed 6-7-02; 8:45 am]

BILLING CODE 6717-01-P

Editorial Note: Due to printing errors this document was omitted from the issue of Wednesday, May 1, 2002. It was referenced in the table of contents as appearing on page 21650. It is being correctly printed in its entirety.

[FR Doc. R2-10658 Filed 6-7-02; 8:45 am]

BILLING CODE 1505-01-D